DEPARTMENT OF TRANSPORTATION

Federal Aviation Administration

14 CFR Part 71

[Docket No. FAA-2024-2084; Airspace Docket No. 24-AGL-14]

RIN 2120-AA66

Establishment of Class E Airspace; Zeeland, MI

AGENCY: Federal Aviation Administration (FAA), DOT.

ACTION: Final rule; correction.

SUMMARY: This action corrects a final rule typographic error published in the Federal Register on December 13, 2024.

DATES: The effective date of the final rule published in the Federal Register on December 13, 2024 (89 FR 100737) remains April 17, 2025, 0901 UTC.

ADDRESSES: A copy of this final rule, and all background material may be viewed online at www.regulations.gov using the FAA Docket number. Electronic retrieval help and guidelines are available on the website. It is available 24 hours each day, 365 days each year.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule for Docket No. FAA-2024-2084 in the Federal Register on December 13, 2024 (89 FR 100737). Subsequent to publication, the FAA identified that the final rule was published with duplicate state identifiers and one was incorrect. This action corrects the error by deleting the “SD” identifier which is the incorrect identifier.

Correction to Final Rule

Accordingly, pursuant to the authority delegated to me, the Establishment of Class E Airspace; Zeeland, MI, published in the Federal Register on December 13, 2024 (89 FR 100737), is corrected as follows:

§ 71.1 [Corrected]

On page 100738, in the third column under the heading “AGL MI E5 Zeeland, MI [Establish]”, revise the line immediately under the heading to read, “Ottawa Executive Airport, MI”

Issued in Fort Worth, Texas, on February 13, 2025.
Martin A. Skinner,
Acting Manager, Operations Support Group, ATO Central Service Center . . .

[FR Doc. 2025-02795 Filed 2-21-25; 8:45 am]

BILLING CODE 4910-13-P